ENVIRONMENTAL PROTECTION AGENCY

[FRL-7219-6]

Agency Information Collection Activities: Submission for OMB Review; Comment Request; Regulatory Reinvention Pilot Projects Under Project XL

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Regulatory Reinvention Pilot Projects Under Project XL, OMB Control No. 2010-0026, expiring May 31, 2002. The ICR describes the nature of the information collection and its expected burden and cost; where appropriate, it includes the actual data collection instrument.

DATES: Comments must be submitted on or before June 28, 2002.

ADDRESSES: Send comments, referencing EPA ICR No. 1755.06 and OMB Control No. 2010-0026, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epa.gov, or download off the Internet at http://www.epa.gov/icr and refer to EPA ICR No. 1755.06. For technical questions about the ICR contact Eric Marsh in EPA's Office of Environmental Policy Innovation at (202) 260-2782.

SUPPLEMENTARY INFORMATION: Title: Regulatory Reinvention Pilot Projects Under Project XL (OMB Control No. 2010-0026; EPA ICR No. 1755.06) expiring May 31, 2002. This is a request for extension of a currently approved collection.

Abstract: In 1995 the U.S. Environmental Protection Agency began to solicit innovative pilot projects in response to a challenge to transform the environmental regulatory system to better meet the needs of a rapidly changing society while maintaining the nation's commitment to protect human health and safeguard the natural environment. Through site-specific agreements with project sponsors, EPA is gathering data and project experience that will help the Agency redesign current approaches to public health and environmental protection. Through these projects, sponsors—private facilities, multiple facilities, industry sectors, Federal facilities, communities, universities, Tribes and States—can implement innovative strategies that produce superior environmental performance, provide flexibility, cost savings, paperwork reduction or other benefits to sponsors, and promote greater accountability to stakeholders.

The intent of the regulatory flexibility of the innovative pilot projects is to allow the EPA to experiment with untried, potentially promising regulatory approaches, both to assess whether they provide superior environmental performance and other benefits at the specific facility affected, and whether they should be considered for wider application. Such pilot projects allow the EPA to proceed more quickly than would be possible when undertaking changes on a nationwide basis. EPA may modify rules, on a site or state specific basis, that represent one of several possible policy approaches within a more general statutory directive, so long as the alternative being used is permissible under the statute.

Innovative pilot project proposals are collected by EPA's Office of Environmental Policy Innovation (OEPI) [formerly the Office of Reinvention], which has been given responsibility for implementation of this program. Since 1995, EPA has implemented pilot projects to test innovative ideas working with EPA headquarters, EPA regions, federal, state, and local government agencies. The renewal of this ICR is important as it will allow the Agency to identify additional regulated entities who are interested in participating in innovative pilot projects as well as allow the Agency to continue its commitment to innovation and regulatory flexibility with facilities, communities, and states in achieving environmental results. The renewal of this ICR will allow OEPI to continue to receive and work with project sponsors on proposals for innovation, including those directly through EPA and those through the Joint EPA-State Agreement to Pursue Regulatory Innovation. In addition, the renewal of this ICR is necessary to allow EPA to continue its commitments to current projects, including three specified in approved ICR amendments: the NYSDEC ICR amendemnt (1755.03), the US Filter ICR amendment (1755.04) and the POTWs ICR amendment (1755.05).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on November 9, 2001 (66 FR 56671); no comments were received.

Burden Statement: The annual public reporting and record keeping burden for this collection of information is estimated to average 150 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information, adjust the existing ways to comply with any previously applicable instructions and requirements; train personal to be able to respond to a collection of information; search data sources; complete and review the collection of information; and transit or otherwise disclose the information.

Respondents/Affected Entities: Business or other for profit, State, Local or Tribal Government.

Estimated Number of Respondents: 480.

Frequency of Response: Once.

Estimated Total Annual Hour Burden: 60,840.

Estimated Total Annualized Capital, O&M Cost Burden: $0.

Send comments on the Agency's need for this information, the accuracy of the provided burden estimates, and any suggested methods for minimizing respondent burden, including through the use of automated collection techniques to the addresses listed above. Please refer to EPA ICR No. 1755.06 and OMB Control No. 2010-0026 in any correspondence.

Dated: May 2, 2002.
Oscar Morales,
Director, Collection Strategies Division.

[FR Doc. 02-13355 Filed 5-28-02; 8:45 am]

BILLING CODE 6560-50-M